DEPARTMENT OF THE INTERIOR

Bureau of Land Management

[DOI-2023-0020; LLHQ260000.L10600000.PC0000.24X]

Privacy Act of 1974; System of Records

AGENCY: Bureau of Land Management, Interior.

ACTION: Notice of a modified system of records.

SUMMARY: Pursuant to the provisions of the Privacy Act of 1974, as amended, the Department of the Interior (DOI) is issuing a public notice of its intent to modify the Bureau of Land Management (BLM) Privacy Act system of records, INTERIOR/LLM-37, Wild Horse & Burro Program System (WHBPS), to consolidate two systems of records, change the title to INTERIOR/BLM-37, Wild Horse and Burro Program (WHBP), and makes changes to all sections of the system of records notice (SORN) to reflect the expanded scope of the consolidated and modified system in accordance with the Office of Management and Budget (OMB) policy. This modified system will be included in DOI's inventory of record systems.

DATES: This modified system will be effective upon publication. New or modified routine uses will be effective May 13, 2024. Submit comments on or before May 13, 2024.

ADDRESSES: You may send comments identified by docket number [DOI-2023-0020] by any of the following methods:

• Federal eRulemaking Portal: https://www.regulations.gov. Follow the instructions for sending comments.

• Email: DOI_Privacy@ios.doi.gov. Include docket number [DOI-2023-0020] in the subject line of the message.

• U.S. Mail or Hand-Delivery: Teri Barnett, Departmental Privacy Officer, U.S. Department of the Interior, 1849 C Street NW, Room 7112, Washington, DC 20240.

Instructions: All submissions received must include the agency name and docket number [DOI-2023-0020]. All comments received will be posted without change to https://www.regulations.gov, including any personal information provided.

Docket: For access to the docket to read background documents or comments received, go to https://www.regulations.gov.

FOR FURTHER INFORMATION CONTACT: Ashanti Murphy-Jones, Acting Associate Privacy Officer, Bureau of Land Management, 1849 C Street NW, Room 5644, Washington, DC 20240, blm_wo_privacy@blm.gov or (202) 365-1429.

SUPPLEMENTARY INFORMATION:

I. Background

The BLM created the Wild Horse and Burro Program (WHBP) to implement the Wild-Free Roaming Horses and Burros Act, passed by Congress in 1971. Broadly, the law declares wild horses and burros to be “living symbols of the historic and pioneer spirit of the West” and stipulates that the BLM and the U.S. Forest Service (FS) have the responsibility to manage and protect herds in their respective jurisdictions within areas where wild horses and burros were found roaming in 1971.

To maintain wild horses and burros in good condition and protect the health of our public lands, the BLM must manage the population growth of wild horse and burro herds. Without natural population controls, such as predation, herds can increase at a rate of up to 20 percent annually, doubling in size in just 4 to 5 years, if not appropriately managed. Population control must be implemented to protect scarce and fragile resources in the arid West and ensure healthy animals. To carry out this mission, the BLM controls herd growth through the application of fertility measures, such as birth control, and through the periodic removals of excess animals and the placement of those animals into private care.

The BLM manages the WHBP, which includes records on individuals covered by two SORNs. The INTERIOR/BLM-28, Adopt a Wild Horse, 51 FR 25111 (July 10, 1986), modifications published at 73 FR 17376 (April 1, 2008) and 86 FR 50156 (September 7, 2021), SORN covers the management of placing excess animals into private care through its adoption and sales programs. The INTERIOR/LLM-37, Wild Horse & Burro Program System (WHBPS), 72 FR 67956 (December 3, 2007), modifications published at 73 FR 17376 (April 1, 2008) and 86 FR 50156 (September 7, 2021), SORN covers the overall management, protection, and study of wild and free-roaming horses and burros on public lands in the United States.

During an annual review of these notices, the BLM determined that these two systems were managed by one system manager located in the WHBP Office, shared the same legal authorities, and generally had the same overarching purposes, categories of individuals and records, and retention. In an effort to streamline WHBP functions, improve consistency, and eliminate duplicative content, the BLM is proposing to consolidate these two systems of records into one, and change the system name from INTERIOR/LLM-37, Wild Horse & Burro Program System (WHBPS), to INTERIOR/BLM-37, Wild Horse and Burro Program (WHBP), to reflect the program-level management and clearly describe the records collected, used, and/or maintained in support of the overall WHBP. This notice also reorganizes the sections and provides updates to all sections to accurately reflect the scope of the new consolidated system of records in accordance with the Privacy Act of 1974 and OMB Circular A-108, Federal Agency Responsibilities for Review, Reporting, and Publication under the Privacy Act. The INTERIOR/BLM-28, Adopt a Wild Horse, SORN will be rescinded after the publication and comment period for the new consolidated SORN.

This revised notice combines the records in the two previous systems of records under one program SORN; updates the system location to reflect a centralized point of contact for the program; updates authorities to properly cite to all the specific programmatic authorities for collecting, maintaining, using, and disseminating the information under the WHBP; adds a new section to describe the purposes of the system; expands on the categories of individuals and categories of records to more accurately reflect the types of individuals and administrative records contained within the system; updates the record sources to include a more inclusive list; provides updates for the storage, retrieval, safeguards, and records retention schedules; and updates the record access, contesting, and notification procedures to incorporate instructions on submitting Privacy Act requests. This notice also makes general and administrative updates throughout to accurately reflect the management of the new consolidated system of records in accordance with OMB Circular A-108.

The existing routine uses are being updated from a numeric to alphabetic list and are being modified to provide clarity and transparency and reflect updates consistent with standard DOI routine uses. Additionally, DOI is proposing new routine uses to facilitate the sharing of information with agencies and organizations to promote the integrity of the records in the system or carry out a statutory responsibility of the DOI or Federal government.

Routine use A was slightly modified to further clarify disclosures to the Department of Justice or other Federal agencies, when necessary, in relation to litigation or judicial hearings. Routine use B was modified to clarify disclosures to a congressional office to respond to or resolve an individual's request made to that office. Routine use J was modified to allow DOI and the BLM to share information with appropriate Federal agencies or entities when reasonably necessary to respond to a breach of personally identifiable information and to prevent, minimize, or remedy the risk of harm to individuals or the Federal government in accordance with OMB Memorandum M-17-12, Preparing for and Responding to a Breach of Personally Identifiable Information. Routine use O was modified to describe the disposition of wild horses and burros including adoption, sale, transfer, death, or facility maintained.

Additionally, BLM is proposing new routine uses C through I, L through N, and P to facilitate the sharing of information with agencies and organizations to ensure the BLM can fulfill its responsibility to manage and protect herds in their respective jurisdictions within areas where wild horses and burros are found roaming, promote the integrity of the records in the system, or carry out a statutory responsibility of the BLM or Federal government. Routine use C facilitates the sharing of information with the Executive Office of the President to resolve issues concerning individuals' records. Routine use D provides additional clarification on external organizations and circumstances where disclosures are compatible with the purpose for which the records were compiled. Routine use E assists other Federal agencies with reconciling or reconstructing data files or responding to an inquiry by the individual to whom the record pertains. Routine use F allows the BLM to share information with agencies when relevant for hiring and retention or issuance of a security clearance, license, contract, grant, or benefit. Routine use G allows the BLM to share information with the National Archives and Records Administration (NARA) to conduct records management inspections. Routine use H allows the BLM to share information with external entities, such as State, territorial, and local governments, and Tribal organizations needed in response to court orders and/or for discovery purposes related to litigation. Routine use I allows the BLM to share information with an expert, consultant, grantee, shared service provider, or contractor (including employees of the contractor) of DOI that performs services requiring access to these records on DOI's behalf to carry out the purposes of the system. Routine use L allows the BLM to share information with the OMB during the coordination and clearance process in connection with legislative affairs. Routine use M allows the BLM to share information with the Department of the Treasury to recover debts owed to the United States. Routine use N allows the BLM to share information with the news media and the public if there is a legitimate public interest in the disclosure of the information. Routine use P allows the BLM to share information with the FS regarding the disposition of FS-managed wild horses and burros cared for by the BLM, as part of the overall multiple-use mission under the authority of the 1971 Wild Free-Roaming Horses and Burros Act.

Pursuant to the Privacy Act, 5 U.S.C. 552a(b)(12), DOI may disclose information from this system to consumer reporting agencies as defined in the Fair Credit Reporting Act (15 U.S.C. 1681a(f)) or the Federal Claims Collection Act of 1966 (31 U.S.C. 3701(a)(3)) to aid in the collection of outstanding debts owed to the Federal Government.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains, and the routine uses of each system. The INTERIOR/BLM-37, Wild Horse and Burro Program (WHBP), SORN is published in its entirety below. In accordance with 5 U.S.C. 552a, DOI has provided a report of this system of records to OMB and Congress.

III. Public Participation

You should be aware your entire comment including your personally identifiable information, such as your address, phone number, email address, or any other personal information in your comment, may be made publicly available at any time. While you may request to withhold your personally identifiable information from public review, we cannot guarantee we will be able to do so.

SYSTEM NAME AND NUMBER:

INTERIOR/BLM-37, Wild Horse and Burro Program (WHBP).

SECURITY CLASSIFICATION:

Unclassified.

SYSTEM LOCATION:

Records are maintained at the BLM, National Operations Center, Building 50, Denver Federal Center, Denver, CO 80225. Records may also be located at BLM headquarters, regional, State, district, and field offices responsible for managing the WHBP. A current listing of offices and contact information may be obtained by visiting the BLM website at https://www.blm.gov/programs/wild-horse-and-burro/contacts.

SYSTEM MANAGER(S):

Division Chief, Office of the Director, (Wild Horse and Burro), U.S. Department of the Interior, Bureau of Land Management, 201 Stephenson Pkwy, Ste. 1200, Norman, Oklahoma 73072.

AUTHORITY FOR MAINTENANCE OF THE SYSTEM:

The Wild Free Roaming Horse and Burro Act of 1971, as amended, 16 U.S.C. 1331-40; The Federal Land Policy and Management Act, as amended, 43 U.S.C. 1701-87; 43 CFR part 4700, Protection, Management, and Control of Wild Free-Roaming Horses and Burros; and 31 U.S.C. 7701, Taxpayer identifying number.

PURPOSE(S) OF THE SYSTEM:

The primary purposes of the records are to:

(1) Identify individuals who have applied to obtain custody of a wild horse or burro through adoption, sale, or transfer;

(2) Document the rejection, suspension, or granting of the request for adoption, sale, or transfer;

(3) Monitor compliance with laws and regulations concerning maintenance of adopted and fostered animals;

(4) Identify contractors, employees, volunteers, and service providers required to perform program functions;

(5) Provide necessary program management information to other agencies involved in management of wild horses and burros on public lands: the FS and Animal and Plant Health Inspection Service (APHIS); and

(6) Identify and assign level of system access required by BLM employees, contractors, and program personnel.

CATEGORIES OF INDIVIDUALS COVERED BY THE SYSTEM:

This system includes applicants, individuals or organizations who have applied to adopt wild horse(s) and burro(s), adopted one or more wild horse(s) or burro(s), and bought wild horse(s) and burro(s) that meet sale criteria as outlined under law; foster care providers who have fostered one or more wild horse(s) or burro(s); and also includes Federal, State, and local government agencies and officials involved in the transfer of excess wild horse(s) and burro(s). This system also includes contractors and contract operators of facilities; veterinarians who are serving the program; volunteers; service providers; and BLM, FS, and APHIS employees with WHBP responsibilities. This system may also contain records on corporations and other business entities, which are not subject to the Privacy Act. However, records pertaining to individuals acting on behalf of corporations and other business entities may reflect personal information that may be maintained in this system of records.

CATEGORIES OF RECORDS IN THE SYSTEM:

The WHBP system of records contains paper and electronic records, which may include but is not limited to:

• WHBP titled adoption case files. These records contain non-serialized case files documenting adoptions that result in title to the animal being transferred by the BLM to individual or group adopters. Records consist of a private maintenance and care agreements, applications, adoption incentive program files, screening checklists, certificates of title, title eligibility letters, compliance records, body fat worksheets, receipts for payment of fees, facility certification for five or more animals, power of attorney forms, correspondence with adopters, reports of escape, theft, or death of adopted animals, and requests for replacement animals with veterinarian's statement. The WHBP system includes additional compliance documentation such as reports of inhumane treatment, investigation reports, compliance checks, inspections, photos and videos, notice of need for corrective action letters, citations, maintenance and care agreement letters, cancellation of agreement letters, records of repossession of animal, notices of violation, decision letters, and BLM Form 1842-1, Information on Taking Appeals to the Interior Board of Land Appeals.

• Untitled adoption case files. These records may include non-serialized case files documenting approved adoptions for which a request for title was never received. Records consist of private maintenance and care agreements, applications, adoption incentive program files, screening checklists, compliance records, body fat worksheets, receipts for payment of fees, facility certification for five or more animals, power of attorney forms, correspondence with adopters, reports of escape, theft, or death of adopted animals, requests for replacement animals with veterinarian's statement, and request to terminate agreements. These records may include additional compliance documentation as described in titled cases.

• Applications that do not result in adoption. These records may consist of applications, screening checklists, and related maps, correspondence, and duplicate adoption case files that are non-record copies of adoption documents.

• Animal preparation case files. These may consist of records documenting the physical examination, freeze-marking, and treatment of animals in preparation for private maintenance by adopters, as well lab tests, veterinarian certificates, veterinarian treatment records, health certificates, and other preparation records.

• Animal shipping case files. The animal case files may include bill of lading, shipping manifest, vehicle inspections, instructions to truck driver, diagram of trailer, hauling permits and licenses.

• Animal training facility case files. Training facility case files may consist of agreements with prisons or other training facility, training evaluation forms, training certificates, and daily training records.

• Adoption databases. The adoption databases support the WHBP and are accessible to authorized employees on their government furnished equipment. They contain information derived from hard copy records authorized for destruction.

• WHBP master file. The WHBP master file may contain information on the care animals are receiving, any changes in location of the animals, and documentation about the passage of animal title to the adopter. It also provides data that allows assessment of the short-term and long-term effects on public lands where wild horses and burros graze.

These records may contain the applicant's (individual) full name, address, home or cell phone number, and email; applicant's (Animal Group/Organization) name, tax identification or Federal Employer Identification Number, address of housed animals, phone number, and email address; assigned veterinarian's name, address, and phone number; Adopter or Foster's name, address, driver's license number, date of birth, Social Security number, home phone, alternate phone, email address, care facility owner's last name, physical facility address and phone number; and adoption location, adoption site codes, freeze-mark, signalment key, adoption key code, and adoption fee.

Records for BLM employees, contractors and other officials covered by this system contain contact and identification information such as name, job title, business address, email and phone number, job qualifications, certifications, services supplied, system access roles, and approval authorities. This information is necessary to administer the WHBP and identify suppliers of services or products needed for WHBP administration.

RECORD SOURCE CATEGORIES:

Information within the WHBP primarily comes from members of the public or animal groups or organizations who have applied for adoption, adopted, fostered, or purchased a wild horse or burro. Information can also come from contractors and contract operators of facilities; veterinarians who are serving the program; volunteers; service and supply providers; and BLM, FS, and APHIS employees with WHBP responsibilities; and other sources related to services or support of the program.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity if DOI or DOJ has agreed to represent that employee or pay for private representation of the employee; or

(5) The U.S. Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, State, territorial, local, Tribal, or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, State, territorial, local, or Tribal or foreign agencies that have requested information relevant or necessary to the hiring, firing, or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To State, territorial, and local governments and Tribal organizations to provide information needed in response to court order and/or discovery purposes related to litigation, when the disclosure is compatible with the purpose for which the records were compiled.

I. To an expert, consultant, grantee, shared service provider, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach, there is a risk of harm to individuals, DOI (including its information systems, programs, and operations), the Federal government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To organizations and individuals for the purpose of responding to requests about the government's operations as it pertains to the disposition of wild horses and burros to include adoption, sale, transfer, death, or specific facility.

P. To the FS regarding the disposition of FS-managed wild horses and burros cared for by the BLM WHBP as part of their overall multiple-use missions under the authority of the 1971 Wild Free-Roaming Horses and Burros Act.

POLICIES AND PRACTICES FOR STORAGE OF RECORDS:

Paper records are contained in file folders stored within locked file cabinets located in restricted access areas at BLM district and field offices. Electronic records are stored on disk, system hard drives, tape, or other appropriate media.

POLICIES AND PRACTICES FOR RETRIEVAL OF RECORDS:

Records may be retrieved by applicant name, Social Security number, driver's license number, State, organization name, and freeze mark.

POLICIES AND PRACTICES FOR RETENTION AND DISPOSAL OF RECORDS:

Records are retained under the Departmental Records Schedule (DRS), General Records Schedule (GRS), and BLM Records Retention Catalog, Schedule 4—Property Use and Disposal Records, Items 4/8a through 4/8g, 4/8i, and 4/8j(1), which was approved by NARA (N1-49-98-1, N1-49-90-1 and N1-049-09-4).The records disposition may be either temporary or permanent depending on the specific record. Temporary records include adoption records, applications, animal preparation, shipping and facility case files, and other related records that are cutoff off at the end of the fiscal year then destroyed in accordance with the applicable disposition schedule. Approved destruction methods include shredding or pulping for paper records and degaussing or erasing for electronic records, in accordance with NARA guidelines and Departmental policy. WHBP master files have a permanent retention and are cutoff every five years then transferred to NARA.

ADMINISTRATIVE, TECHNICAL, AND PHYSICAL SAFEGUARDS:

The records contained in this system are safeguarded in accordance with 43 CFR 2.226 and other applicable security and privacy rules and policies. During normal hours of operation, paper records are maintained in secure cabinets and/or in secure file rooms under the control of authorized personnel.

Computerized records systems follow the National Institute of Standards and Technology privacy and security standards as developed to comply with the Privacy Act of 1974, as amended, 5 U.S.C. 552a; Paperwork Reduction Act of 1995, 44 U.S.C. 3501 et seq.; Federal Information Security Modernization Act of 2014, 44 U.S.C. 3551 et seq.; and the Federal Information Processing Standards 199: Standards for Security Categorization of Federal Information and Information Systems. Security controls include user identification, passwords, multi-factor authentication, database permissions, firewalls, audit logs, network system security monitoring, and software controls.

Access to records in the system is limited to authorized personnel who have a need to access the records in the performance of their official duties, and each user's access is restricted to only the functions and data necessary to perform that person's job responsibilities. System administrators and authorized users are trained and required to follow established internal security protocols and must complete all security, privacy, and records management training and sign the DOI Rules of Behavior. A Privacy Impact Assessment was completed for the associated information system under the BLM WHBP to ensure that Privacy Act requirements are met, and appropriate privacy controls were implemented to safeguard the personally identifiable information contained in the systems.

RECORD ACCESS PROCEDURES:

An individual requesting access to their records should send a written inquiry to the applicable System Manager identified above. DOI forms and instructions for submitting a Privacy Act request may be obtained from the DOI Privacy Act Requests website at https://www.doi.gov/privacy/privacy-act-requests. The request must include a general description of the records sought and the requester's full name, current address, and sufficient identifying information such as date of birth or other information required for verification of the requester's identity. The request must be signed and dated and be either notarized or submitted under penalty of perjury in accordance with 28 U.S.C. 1746. Requests submitted by mail must be clearly marked “PRIVACY ACT REQUEST FOR ACCESS” on both the envelope and letter. A request for access must meet the requirements of 43 CFR 2.238.

CONTESTING RECORD PROCEDURES:

An individual requesting amendment of their records should send a written request to the applicable System Manager as identified above. DOI instructions for submitting a request for amendment of records are available on the DOI Privacy Act Requests website at https://www.doi.gov/privacy/privacy-act-requests. The request must clearly identify the records for which amendment is being sought, the reasons for requesting the amendment, and the proposed amendment to the record. The request must include the requester's full name, current address, and sufficient identifying information such as date of birth or other information required for verification of the requester's identity. The request must be signed and dated and be either notarized or submitted under penalty of perjury in accordance with 28 U.S.C. 1746. Requests submitted by mail must be clearly marked “PRIVACY ACT REQUEST FOR AMENDMENT” on both the envelope and letter. A request for amendment must meet the requirements of 43 CFR 2.246.

NOTIFICATION PROCEDURES:

An individual requesting notification of the existence of records about them should send a written inquiry to the applicable System Manager as identified above. DOI instructions for submitting a request for notification are available on the DOI Privacy Act Requests website at https://www.doi.gov/privacy/privacy-act-requests. The request must include a general description of the records and the requester's full name, current address, and sufficient identifying information such as date of birth or other information required for verification of the requester's identity. The request must be signed and dated and be either notarized or submitted under penalty of perjury in accordance with 28 U.S.C. 1746. Requests submitted by mail must be clearly marked “PRIVACY ACT INQUIRY” on both the envelope and letter. A request for notification must meet the requirements of 43 CFR 2.235.

EXEMPTIONS PROMULGATED FOR THE SYSTEM:

None.

HISTORY:

72 FR 67956 (December 3, 2007); modification published at 73 FR 17376 (April 1, 2008), and 86 FR 50156 (September 7, 2021).

Teri Barnett,
Departmental Privacy Officer, U.S. Department of the Interior.

[FR Doc. 2024-07738 Filed 4-10-24; 8:45 am]

BILLING CODE 4130-84-P